GENERAL SERVICES ADMINISTRATION

Proposed Collection; Comment Request Entitled Nondiscrimination in Federal Financial Assistance Programs

AGENCY: Office of Equal Employment Opportunity, GSA.

ACTION: Notice of request for public comments regarding an extension to an existing OMB clearance (3090-0228).

SUMMARY: The GSA hereby gives notice under the Paperwork Reduction Act of 1995 (44 U.S.C. Chapter 35), that it is requesting the Office of Management and Budget (OMB) to reinstate information collection, 3090-0228, “Nondiscrimination in Federal Financial Assistance Programs.” This information is needed to ensure that recipients of Federal financial assistance distribute Federal surplus property in a nondiscriminatory manner.

DATES: January 25, 2001.

ADDRESSES: Send comments to Edward Springer, GSA Desk Officer, Room 3235, NEOB, Washington, DC 20503.

Annual Reporting Burden: Respondents: 55; annual responses: 1; average hours per response: 16; burden hours: 16,200.

FOR FURTHER INFORMATION CONTACT: William Conley, Office of Equal Employment Opportunity, (202) 501-0767.

Copy of Proposal: A copy of this proposal may be obtained from the GSA Acquisition Policy Division (MVP), Room 4011, GSA Building, 18th & F Streets NW, Washington, DC 20405, or by telephoning (202) 501-3822, or by faxing your request to (202) 501-3341.

Dated: December 19, 2000.
David A. Drabkin,
Deputy Associate Administrator, Office of Acquisition Policy.

[FR Doc. 00-32841 Filed 12-22-00; 8:45 am]

BILLING CODE 6820-61-M